DEPARTMENT OF HEALTH AND HUMAN SERVICES

Centers for Disease Control and Prevention

[Docket Number CDC-2015-0080, NIOSH-283]

NIOSH Oil and Gas Sector Program—Strategic Plan for Research and Prevention, 2016-2025; Request for Comment

AGENCY: National Institute for Occupational Safety and Health (NIOSH) of the Centers for Disease Control and Prevention (CDC), Department of Health and Human Services (HHS).

ACTION: Notice of draft document available for public comment.

SUMMARY: The National Institute for Occupational Safety and Health (NIOSH) of the Centers for Disease Control and Prevention (CDC) announces the availability of a draft strategic plan entitled NIOSH Oil and Gas Sector Program—Strategic Plan for Research and Prevention, 2016-2025 for public comment. The document and instructions for submitting comments can be found at www.regulations.gov.

DATES: Electronic or written comments must be received by October 21, 2015.

ADDRESSES: You may submit comments, identified by CDC-2015-0080 and Docket Number NIOSH-283, by either of the following methods:

• Federal eRulemaking Portal: www.regulations.gov. Follow the instructions for submitting comments.

• Mail: National Institute for Occupational Safety and Health, NIOSH Docket Office, 1090 Tusculum Avenue, MS C-34, Cincinnati, Ohio 45226-1998.

Instructions: All information received in response to this notice must include the agency name and docket number [CDC-2015-0080; NIOSH-283]. All relevant comments received will be posted without change to www.regulations.gov, including any personal information provided. Please make reference to CDC-2015-080 and Docket Number NIOSH-283. All information received in response to this notice will also be available for public examination and copying at the NIOSH Docket Office, 1150 Tusculum Avenue, Room 155, Cincinnati, OH 45226-1998.

FOR FURTHER INFORMATION CONTACT: David L. Caruso, NIOSH, Office of the Director, 626 Cochrans Mill Road, Pittsburgh, PA 15236, (412) 386-6473 (not a toll-free number), Email: ake3@cdc.gov.

SUPPLEMENTARY INFORMATION:

Background

The purpose of this strategic plan is to define and prioritize occupational safety and health research and prevention activities for NIOSH in the oil and gas exploration and production industry through 2025. This strategic plan focuses on conducting priority research to prevent injuries, illnesses and fatalities to workers employed in the onshore, exploration and production industry. The plan's research goals are organized according to the four areas that make up the NIOSH Oil and Gas Sector Program: (1) Epidemiology and surveillance, (2) exposure assessment, (3) control technologies, and (4) communications. The plan also includes performance measures that describe specific research activities that will be used to guide research, measure progress, and evaluate the success of the NIOSH Oil and Gas Sector Program in improving safety and health in this high-risk industry.

Information Needs

NIOSH is seeking public review and comment on this document from everyone with an interest in the health and safety of workers in the oil and gas extraction and production industry.

Dated: September 10, 2015.
John Howard,
Director, National Institute for Occupational Safety and Health, Centers for Disease Control and Prevention.

[FR Doc. 2015-23705 Filed 9-18-15; 8:45 am]

BILLING CODE 4163-19-P